DEPARTMENT OF ENERGY

Federal Energy Regulatory Commission

Notice of Fourth Interstate Natural Gas Facility-Planning Seminar

March 27, 2001.

The Office of Energy Projects will hold the fourth in a series of public meetings around the country for the purposes of exploring and enhancing strategies for constructive public participation in the earliest stages of natural gas facility planning. This seminar will be held in Seattle, Washington on Thursday, April 26, 2001. We are inviting interstate natural gas companies; Federal, state and local agencies; landowners and non-governmental organizations with an interest in developing new ways of doing business to join us in this effort. We will discuss:

• The pre-filing facility planning process;

• The potential benefits of pipeline facilities;

• Any other ways of improving the environmental review process for interstate natural gas pipeline projects.

The staff of the Commission's Office of Energy Projects will give a briefing on the results of our first three seminars in Albany, New York, Chicago, Illinois, and Tampa, Florida. We'll discuss problems that were identified and potential solutions that were offered in the seminars.

Join us as we continue to explore new strategies being employed by the natural gas industry, agencies, and citizens to learn about each others' concerns and to engage the public and agencies in participatory project design. Interactive discussions will be held with panelists from various Federal and state agencies, representatives from natural gas companies, and private landowners or citizen representatives who have had relevant experiences. There will be substantial opportunity for the sharing of experiences and knowledge during both the panel discussions and in the interactive “brainstorming” session. So, bring your ideas with you and prepare to share them.

The objectives of the seminar are:

• Exchange ideas with other stakeholders and explore the best avenues for involving people and agencies, pre-filing, toward fostering settlements through creative issue resolution.

• Explore steps taken to identify the parties directly involved with and affected by natural gas facility siting and/or permitting, so they can work together and resolve issues.

• Build upon the discussions from the first three seminars.

• To encourage the submission of filings with no or few contested issues in order to reduce the Commission's processing time.

• Discuss the potential benefits of an interstate natural gas pipeline project.

• Explore other ideas for improving the FERC's environmental review process.

We are building on what was learned at our prior meetings and continuing to work toward developing a toolbox of the best available techniques for increasing public involvement and developing solutions to issues during the pre-filing planning process. This will help to plan projects with less opposition that can achieve faster action from the Commission with less controversy and fewer conditions.

The meeting in Seattle, Washington will be held at the Washington Athletic Club, 1325 Sixth Avenue, Seattle, Washington 98101. The meeting is scheduled to start at 9 a.m. and finish at 2:30 p.m. A preliminary agenda (attachment 1) and directions to the Washington Athletic Club (attachment 2) are enclosed. Also, see attachment 3 regarding the selection of locations of future meetings.

If you plan to attend, please e-mail our team at: gasoutreach@ferc.fed.us by April 20, 2001. Or, you can respond via facsimile to Pennie Lewis-Partee at 202-208-0353. Please include in the response the names, addresses, and telephone numbers of all attendees from your organization. We will send an acknowledgment of your request.

To help us enhance our panel discussions, please consider issues and/or questions you would like to have addressed at the meetings and e-mail them to us. If you have any questions, you may contact any of the staff listed below:

Richard Hoffmann 202/208-0066

Lauren O'Donnell 202/208-0325

Jeff Shenot 202/219-2178

Howard Wheeler 202/208-2299

J. Mark Robinson,
Director, Division of Environmental & Engineering Review, Office of Energy Projects.

Attachment 1

Agenda

4th Interstate Natural Gas Facility Planning Seminar, Federal Energy Regulatory Commission, Washington Athletic Club, Seattle, Washington

April 26, 2001

9:00 a.m. to 2:30 p.m.

9:00 a.m.—Introductions

Welcome: Mark Robinson, Director, Division of Environmental & Engineering Review, Office of Energy Projects, FERC

Rich Hoffman, Office of Energy Projects (OEP), FERC

9:15—The Pipeline Planning/Approval Process—Lauren O'Donnell, OEP, What's the role of FERC

9:30—Summary of Contents from the Albany, Chicago, and Tampa Meetings—Rich Hoffman

9:45—Panel 1. Perspectives on Project Announcement, Route Planning, and How to Work Together—Howard Wheeler, OEP, Moderator

(Discussion of factors re: announcement of the project, planning of the route, types of surveys needed; extent of disturbance, and who to tell. What are the needs of the various stakeholders?)

John Cassidy, Pacific Gas and Electric

Citizen/NGO Representative

Gary Sprague, Washington Department of Fish and Wildlife

(10-minute discussion by each panelist with interactive Brainstorming/Q&A session with panelists and audience for remainder of Panel)

11:00—Break

11:15—Panel 2. What are the Benefits (real and potential) of a natural gas project and right-of-way?—Lauren O'Donnell, Moderator

(Discussion of the various types of benefits of a pipeline project to the company, the individual, local area, region and/or state. How to identify them, how to advertise them.)

Agency Representative

Representative of Northwest Pipeline Corporation

Joanne Longwoods, Muckleshoot Indian Tribe

(10-minute discussion by each panelist with interactive Brainstorming/Q&A session with panelists and audience for remainder of Panel)

12:30—Lunch

1:00—Brainstorming Session * * * OEP Staff will lead an all-participants discussion of issues regarding other potential ways of improving and speeding up the environmental review of interstate natural gas pipeline projects.

—Explore Environmental Impact Statement timelines;

—Explore starting the NEPA process pre-filing; and

—Discuss the role of state and local agencies.

2:15—Summary of the day

BILLING CODE 6717-01-M

BILLING CODE 6717-01-C

Attachment 3

Future Meetings?

Between now and September of 2001, we will conduct additional seminars at locations around the country. Locations for the meetings will be selected based on the history of past, present and especially future pipeline projects where interstate natural gas markets are developing or expanding.

Yes, for those who have been following our progress, we've gone west for our fourth meeting. But, we will hold a meeting in the northeast!

Areas we are considering for meetings include:

Boston, Massachusetts/Portland, Maine area—May/June, 2001?

Reno, Nevada or Salt Lake City, Utah—July/August, 2001?

If you care to voice your opinion about these or other areas, please follow the instructions for contacting us in the notice.

[FR Doc. 01-7889 Filed 3-30-01; 8:45 am]

BILLING CODE 6717-01-M